SECURITIES AND EXCHANGE COMMISSION

[Release No. 34-93303; File No. SR-EMERALD-2021-27]

Self-Regulatory Organizations; MIAX Emerald, LLC; Notice of Withdrawal of Proposed Rule Change To Amend Its Fee Schedule To Adjust the Options Regulatory Fee

October 13, 2021.

On August 12, 2021, MIAX Emerald, LLC (“Exchange”) filed with the Securities and Exchange Commission (“Commission”), pursuant to Section 19(b)(1) of the Securities Exchange Act of 1934 (“Act”),¹ and Rule 19b-4 thereunder,² a proposed rule change to amend the Exchange's fee schedule to revise the Options Regulatory Fee charged starting August 12, 2021. The proposed rule change was immediately effective upon filing with the Commission pursuant to Section 19(b)(3)(A) of the Act.³ The proposed rule change was published for comment in the Federal Register on August 27, 2021.⁴ The Commission received one comment letter on the proposal from the Exchange noting that it planned to withdraw File No. EMERALD-2021-27.⁵ On October 7, 2021, the Exchange withdrew the proposed rule change (SR-EMERALD-2021-27).

¹ 15 U.S.C. 78s(b)(1).

² 17 CFR 240.19b-4.

³ 15 U.S.C. 78s(b)(3)(A).

⁴ See Securities Exchange Act Release No. 92726 (August 23, 2021), 86 FR 48268.

⁵ See Letter to Vanessa Countryman, Secretary, Commission, from Michael Slade, AVP and Associate Counsel, Exchange, dated September 30, 2021.

For the Commission, by the Division of Trading and Markets, pursuant to delegated authority.⁶
⁶ 17 CFR 200.30-3(a)(12).
J. Matthew DeLesDernier,
Assistant Secretary.

[FR Doc. 2021-22687 Filed 10-18-21; 8:45 am]

BILLING CODE 8011-01-P